DEPARTMENT OF LABOR

Employment and Training Administration

Proposed Information Collection Request Submitted for Public Comment and Recommendations; Temporary Extended Unemployment Compensation for Displaced Airline and Related Workers

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed.

DATES: Submit comments on or before November 17, 2003.

ADDRESSES: Send comments to Thomas Stengle, U.S. Department of Labor, Employment and Training Administration, Room S-4231, 200 Constitution Ave. NW., Washington, DC 20210. Phone number: (202) 693-2991. Fax: 202-693-3229. (These are not toll free numbers.) E-mail: stengle.thomas@dol.gov.

SUPPLEMENTARY INFORMATION:

I. Background

On April 16, 2003, President Bush signed into law an enhancement to the Temporary Extended Unemployment Compensation (TEUC) program. This enhancement created special rules for determining TEUC eligibility for certain displaced airline related workers. Such workers may qualify for an additional 26 weeks of basic TEUC benefits if the worker became unemployed as a result of: (1) Reductions in service by an air carrier as a result of a terrorist action or security measure; (2) a closure of an airport in the United States as a result of a terrorist action or security measure; or (3) a military conflict with Iraq that has been authorized by Congress. In order to determine TEUC eligibility for these displaced airline and related workers specific information from employers must be collected. Emergency approval for this collection of information was granted through November 30, 2003. However, to cover the existing period of program implementation and to provide for potential congressional extensions of this program, ETA is seeking a 2 year extension for this collection package.

II. Desired Focus of Comments

Currently, the Department of Labor's Employment and Training Administration is soliciting comments concerning the proposed extension of the Temporary Extended Unemployment Compensation for Displaced Airline Workers information collection request.

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submissions of responses.

A copy of the proposed information collection request (ICR) can be obtained by contacting the office listed above in the addressee section of this notice.

III. Current Actions

Type of Review: Extension.

Agency: Employment and Training Administration.

Title: TEUC—Displaced Airline and Related Workers.

OMB Number: 1205-0440.

Affected Public: State, Local, or Tribal government.

Annualized Reporting Burden (time measured in hours):

| Number of Respondents Burden | Estimated time per response | Number of Reports | Total
Employer | 40,000 | .25 | 1 | 10,000
State | 40,000 | .50 | 1 | 20,000
Total Burden Hours: |  |  |  | 30,000.

Total Burden Cost (capital/startup): $0.

Total Burden Cost (operating/maintaining): $781,700.

Comments submitted in response to this comment request will be summarized and/or included in the request for Office of Management and Budget approval of the information collection request and will become a matter of public record.

Dated: September 8, 2003.
Cheryl Atkinson,
Administrator, Office of Workforce Security.

[FR Doc. 03-23546 Filed 9-15-03; 8:45 am]

BILLING CODE 4510-30-P